DEPARTMENT OF LABOR

Employment and Training Administration

[TA-W-82,165L]

Interstate Brands Corporation (IBC) a Wholly Owned Subsidiary of Hostess Brands, Inc. Including On-Site Leased Workers From Stivers Temporary Personnel, Real Time Staffing Services, Inc. (Doing Business as Select Staffing AKA Koosharem, LLC) and REMX Operating at Locations Throughout the State of Illinois; Amended Certification Regarding Eligibility To Apply for Worker Adjustment Assistance

In accordance with Section 223 of the Trade Act of 1974, as amended (“Act”), 19 U.S. C. 2273, the Department of Labor issued a Certification of Eligibility to Apply for Worker Adjustment Assistance on February 19, 2013, applicable to workers of Interstate Brands Corporation (IBC), a wholly owned subsidiary of Hostess Brands, Inc., including on-site leased workers from Stivers Temporary Personnel, operating throughout the state of Illinois. The Department's notice of determination was published in the Federal Register on February 25, 2014 (78 FR 12795).

At the request of a state workforce office, the Department reviewed the certification for workers of the subject firm. The workers were engaged in activities related to the production of baked goods.

The company reports that workers leased from Real Time Staffing Services, Inc. (doing business as Select Staffing aka Koosharem, LLC) and Remx were employed on-site at the Schiller Park, Illinois location of Interstate Brands Corporation (IBC), a wholly owned subsidiary of Hostess Brands, Inc. The Department has determined that these workers were sufficiently under the control of the subject firm to be considered leased workers.

Based on these findings, the Department is amending this certification to include workers leased from Real Time Staffing Services, Inc. (doing business as Select Staffing aka Koosharem, LLC) and Remx working on-site at the Schiller Park, Illinois location of Interstate Brands Corporation (IBC), a wholly owned subsidiary of Hostess Brands, Inc.

The amended notice applicable to TA-W-82,165L is hereby issued as follows:

All workers of Interstate Brands Corporation (IBC), a wholly owned subsidiary of Hostess Brands, Inc., including on-site leased workers from Stivers Temporary Personnel, Real Time Staffing Services, Inc. (doing business as Select Staffing aka Koosharem, LLC) and Remx, operating throughout the state of Illinois, who became totally or partially separated from employment on or after November 19, 2011 through February 19, 2015, and all workers in the group threatened with total or partial separation from employment on the date of certification through two years from the date of certification, are eligible to apply for adjustment assistance under Chapter 2 of Title II of the Trade Act of 1974, as amended.

Signed in Washington, DC, this 8th day of October, 2014.
Michael W. Jaffe,
Certifying Officer, Office of Trade Adjustment Assistance.

[FR Doc. 2014-27488 Filed 11-19-14; 8:45 am]

BILLING CODE P